FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Investment in Bank Premises Notification (FR 4014; OMB No. 7100-0139).

FOR FURTHER INFORMATION CONTACT: Federal Reserve Board Clearance Officer—Nuha Elmaghrabi—Office of the Chief Data Officer, Board of Governors of the Federal Reserve System, Washington, DC 20551, (202) 452-3829.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, Without Revision, of the Following Information Collection

Collection title: Investment in Bank Premises Notification.

Collection identifier: FR 4014.

OMB control number: 7100-0139.

Frequency: Event-generated.

Respondents: State member banks.

Estimated number of respondents: 8.

Estimated average hours per response: 0.5.

Estimated annual burden hours: 4.

General description of collection: The Federal Reserve Act (FRA) requires a state member bank to seek prior approval of the Board before making an investment in bank premises or the securities of a corporation holding its bank premises in certain circumstances. The Board has implemented this requirement in its Regulation H—Membership of State Banking Institutions in the Federal Reserve System (12 CFR part 208), which requires a state member bank seeking to make such an investment to provide prior notice to the appropriate Federal Reserve Bank. The Federal Reserve uses the information provided in the notice to determine whether to object to the proposed investment.

Legal authorization and confidentiality: The FR 4014 is authorized by section 24A(a) of the FRA, which requires that state member banks obtain Board approval prior to investing in bank premises that exceed statutory thresholds.¹ The FR 4014 is additionally authorized by section 11 of the FRA, which authorizes the Board to require such statements and reports of state member banks as the Board may deem necessary.² The FR 4014 is required to obtain a benefit.

¹ 12 U.S.C. 371d(a).

² 12 U.S.C. 248(a)(1).

The information contained on the FR 4014 is not considered confidential unless an applicant requests confidential treatment in accordance with the Board's Rules Regarding Availability of Information.³ Requests for confidential treatment of information are reviewed on a case-by-case basis. Information provided on the FR 4014 may be exempt from disclosure pursuant to exemption 4 of the Freedom of Information Act (FOIA) if it is nonpublic commercial or financial information, which is both customarily and actually treated as private by the respondent.⁴

³ 12 CFR 261.17.

⁴ 5 U.S.C. 552(b)(4).

Current actions: On February 18, 2022, the Board published a notice in the Federal Register (87 FR 9348) requesting public comment for 60 days on the extension, without revision, of the Investment in Bank Premises Notification. The comment period for this notice expired on April 19, 2022. The Board did not receive any comments.

Board of Governors of the Federal Reserve System, June 29, 2022.
Michele Taylor Fennell,
Deputy Associate Secretary of the Board.

[FR Doc. 2022-14216 Filed 7-1-22; 8:45 am]

BILLING CODE 6210-01-P